FEDERAL COMMUNICATIONS COMMISSION

[Report No. AUC-04-58-C (Auction No. 58); DA 04-2451]

Revised Inventory for Broadband PCS Spectrum Auction Comment Sought on Reserve Prices or Minimum Opening Bids and Other Auction Procedures

AGENCY: Federal Communications Commission.

ACTION: Notice.

SUMMARY: This document revises the Auction No. 58 inventory to include eight additional licenses, and seeks comment on procedural issues related to the auction of these additional licenses.

DATES: Comments are due on or before August 17, 2004, and reply comments are due on or before August 20, 2004. Auction No. 58 is scheduled to begin January 12, 2005.

ADDRESSES: Comments and reply comments must be sent by electronic mail to the following address: auction58@fcc.gov.

FOR FURTHER INFORMATION CONTACT: For legal questions: Scot Mackoul (202) 418-0660. For general auction questions: Jeff Crooks (202) 418-0660 or Lisa Stover (717) 338-2888. For service rule questions, contact the Mobility Division, Wireless Telecommunications Bureau, as follows: Erin McGrath, (202) 418-0620; JoAnn Epps, (202) 418-1342; or Dwain Livingston, (202) 418-1338.

SUPPLEMENTARY INFORMATION: This is a summary of the Auction No. 58 Revised License Inventory Public Notice released on August 3, 2004. The complete text of the Auction No. 58 Revised License Inventory Public Notice, including attachments is available for public inspection and copying during regular business hours at the FCC Reference Information Center, Portals II, 445 12th Street, SW., Room CY-A257, Washington, DC 20554. The Auction No. 58 Revised License Inventory Public Notice may also be purchased from the Commission's duplicating contractor, Best Copy and Printing, Inc. (“BCPI”), Portals II, 445 12th Street, SW., Room CY-B402, Washington, DC, 20554, telephone (202) 488-5300, facsimile (202) 488-5563, or you may contact BCPI at its Web site: http://www.BCPIWEB.com. When ordering documents from BCPI, please provide the appropriate FCC document number (for example, FCC 00-313 for the C/F Block Sixth Report and Order). The Auction No. 58 Revised License Inventory Public Notice is also available on the Internet at the Com­mission's Web site: http://wireless.fcc.gov/auctions/58/.

I. Background

1. In the Auction No. 58 Comment Public Notice, 69 FR 40632 (July 6, 2004), the Wireless Telecommunications Bureau (“Bureau”) announced the auction of 234 licenses in the broadband Personal Communication Service scheduled to commence on January 12, 2005 (“Auction No. 58”). The Bureau also sought comment on procedures for the auction of those licenses. By the Auction No. 58 Revised License Inventory Public Notice, the Bureau revises the auction inventory to also include eight D and E block broadband PCS licenses. Under the Commission's Part 24 rules, broadband PCS spectrum in the D and E blocks is not subject to the entrepreneur eligibility restrictions. These eight additional licenses, as well as the other licenses to be offered in Auction No. 58, are identified in Attachment A of the Auction No. 58 Revised License Inventory Public Notice. The Auction No. 58 Revised License Inventory Public Notice seeks comment on procedural issues related to the auction of the eight additional D and E block licenses. Parties that submitted comments and/or reply comments in response to the Auction No. 58 Comment Public Notice should not resubmit those filings. Parties should submit comments regarding the auction procedures only to the extent that they relate to the new licenses included in the auction inventory.

II. Reserve Price or Minimum Opening Bid

2. For the eight additional D and E block licenses offered in Auction No. 58, the Bureau proposes to use the same formula for calculating minimum opening bids as proposed in the Auction No. 58 Comment Public Notice. Specifically, for Auction No. 58, the Bureau has proposed to calculate minimum opening bids on a license-by-license basis using formulas based on bandwidth and license area population. Furthermore, the Bureau has proposed to differentiate these formulas based on the population of each license area.

Population ≥ 2,000,000: $0.50 * MHz * License Area Population

Population ≥ 500,000: $0.25 * MHz * License Area Population

Population <500,000: $0.15 * MHz * License Area Population

The specific minimum opening bid for each license available in Auction No. 58 is set forth in Attachment A of the Auction No. 58 Revised License Inventory Public Notice. The Bureau seek comment on these proposals in the same manner as in the Auction No. 58 Comment Public Notice, but in this case, only as these proposals relate to the eight licenses added to the auction inventory. Parties that submitted comments and/or reply comments regarding the reserve price or minimum opening bid in response to the Auction No. 58 Comment Public Notice need not submit new comments unless it relates to the addition of the eight licenses.

III. Upfront Payments and Initial Maximum Eligibility for Each Bidder

3. For the eight additional D and E block licenses offered in Auction No. 58, the Bureau proposes to use the same formula for determining upfront payments as previously proposed in the Auction No. 58 Comment Public Notice. Specifically, for Auction No. 58, the Bureau has proposed to calculate upfront payments on a license-by-license basis using a formula based on bandwidth and license area population:

$0.05 * MHz * License Area Population

The specific proposed upfront payment for each license available in Auction No. 58 is set forth in Attachment A of the Auction No. 58 Revised License Inventory Public Notice. The Bureau further proposed that the amount of the upfront payment submitted by a bidder will determine the maximum number of bidding units on which a bidder may place bids. This limit is a bidder's initial eligibility. Each license is assigned a specific number of bidding units equal to the upfront payment listed in Attachment A of the Auction No. 58 Revised License Inventory Public Notice, on a bidding unit per dollar basis. This number does not change as prices rise during the auction. A bidder's upfront payment is not attributed to specific licenses. Rather, a bidder may place bids on any combination of licenses as long as the total number of bidding units associated with those licenses does not exceed its current eligibility. Eligibility cannot be increased during the auction. Thus, in calculating its upfront payment amount, an applicant must determine the maximum number of bidding units it may wish to bid on (or hold high bids on) in any single round, and submit an upfront payment covering that number of bidding units. The Bureau seeks comment on these proposals as they relate to the eight licenses added to the auction inventory.

IV. Other Auction Procedural Issues

4. In the Auction No. 58 Comment Public Notice, the Bureau also set forth and sought comment on the following proposals relating to auction structure and bidding procedures: (i) Simultaneous multiple-round auction design; (ii) activity rules; (iii) activity rule waivers and reducing eligibility; (iv) information relating to auction delay, suspension or cancellation; (v) round structure; (vi) minimum acceptable bids and bid increments; (vii) high bids and tied bids; (viii) information regarding bid withdrawal and bid removal; and (ix) auction stopping rule. For the additional licenses in Auction No. 58, the Bureau proposes to use the same auction structure and bidding procedures proposed in the Auction No. 58 Comment Public Notice. The Bureau seeks comment on these proposals as they relate to the eight additional licenses included in Attachment A of the Auction No. 58 Revised License Inventory Public Notice.

V. Conclusion

5. Comments are due on or before August 17, 2004, and reply comments are due on or before August 20, 2004. The Bureau requires that all comments and reply comments be filed electronically. Comments and reply comments must be sent by electronic mail to the following address: auction58@fcc.gov. The electronic mail containing the comments or reply comments must include a subject or caption referring to Auction No. 58 Comments and the name of the commenting party. The Bureau requests that parties format any attachments to electronic mail as Adobe® Acrobat® (pdf) or Microsoft® Word documents. Copies of comments and reply comments will be available for public inspection during regular business hours in the FCC Reference Information Center, Room CY-A257, 445 12th Street, SW., Washington, DC 20554. In addition, the Bureau requests that commenters fax a courtesy copy of their comments and reply comments to the attention of Kathryn Garland at (717) 338-2850.

6. This proceeding has been designated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other rules pertaining to oral and written ex parte presentations in permit-but-disclose proceedings are set forth in § 1.1206(b) of the Commission's rules.

Federal Communications Commission.
Gary Michaels,
Deputy Chief, Auctions and Spectrum Access Division, WTB.

[FR Doc. 04-18539 Filed 8-11-04; 8:45 am]

BILLING CODE 6712-01-P